ADMINISTRATIVE CONFERENCE OF THE UNITED STATES

Committee on Regulation

ACTION: Notice of Public Meeting.

SUMMARY: Notice is hereby given that the Administrative Conference of the United States will host a public meeting of the Committee on Regulation on May 31, 2011 beginning at 2:30 p.m. The meeting is expected to run for approximately 90 minutes. At the meeting, Professor Wendy Wagner of the University of Texas Law School will discuss an outline of her planned research for a Conference project on “Science in the Administrative Process” and receive input from the committee on the planned research for the project. Complete details regarding the meeting, the research outline, information on meeting attendance (including information about remote access and obtaining special accommodation for persons with disabilities), and instructions on how to submit comments to the committee will be available on the “Research” section of the ACUS Web site, http://www.acus.gov, prior to the May 31 meeting.

Comments may be submitted by e-mail to Comments@acus.gov, with “Committee on Regulation Comment” in the subject line, or by postal mail to “Committee on Regulation Comments” at the address given below.

DATES: Tuesday, May 31, 2011, at 2:30 p.m.

ADDRESSES: The meeting will be held at the Administrative Conference of the United States, 1120 20th Street, NW., Suite 706 South, Washington, DC 20036.

FOR FURTHER INFORMATION CONTACT: Reeve T. Bull, Designated Federal Officer, Administrative Conference of the United States, 1120 20th Street, NW., Suite 706 South, Washington, DC 20036; Telephone 202-480-2080.

Dated: May 11, 2011.
Jonathan R. Siegel,
Director of Research & Policy.

[FR Doc. 2011-11889 Filed 5-13-11; 8:45 am]

BILLING CODE 6110-01-P